DEPARTMENT OF COMMERCE

National Oceanic and Atmospheric Administration

RIN 0648-XD776

Endangered Species; File No. 19281

AGENCY: National Marine Fisheries Service (NMFS), National Oceanic and Atmospheric Administration (NOAA), Commerce.

ACTION: Notice; issuance of permit.

SUMMARY: Notice is hereby given that Dr. Isaac Wirgin, New York University School of Medicine, Department of Environmental Medicine, 57 Old Forge Road, Tuxedo, NY 10987, has been issued a permit to import and take early life stages of endangered, captive shortnose sturgeon (Acipenser brevirostrum) for purposes of scientific research.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Malcolm Mohead or Rosa L. González, (301) 427-8401.

SUPPLEMENTARY INFORMATION: On May 18, 2015, notice was published in the Federal Register (80 FR 28236) of a request for a permit to import and conduct research on shortnose sturgeon early life stages had been submitted by the above-named applicant. The requested permit has been issued under the authority of the Endangered Species Act of 1973, as amended (ESA; 16 U.S.C. 1531 et seq.) and the regulations governing the taking, importing, and exporting of endangered and threatened species (50 CFR parts 222-226).

In directed studies with endangered shortnose sturgeon early life stages, researchers will define the toxicities of varying concentrations of industrial contaminants, such as polychlorinated biphenyl (PCB) and Dioxin (2,3,7,8-TCDD). Shortnose sturgeon fertilized embryos are authorized to be imported by CITES I permit from the Acadian Sturgeon and Caviar, Inc., New Brunswick, Canada, to the NOAA Howard Marine Sciences Laboratory in Highlands, New Jersey, where the controlled research will take place. The laboratory tests will be conducted both singly and in combination with 10 temperature regimes and varying levels of dissolved oxygen, representing environmental stresses. Surviving progeny will be euthanized after tests are completed each year. In subsequent years of the five-year permit, the Permit Holder will evaluate the toxic effects and sensitivities of shortnose sturgeon to other contaminants.

Issuance of this permit, as required by the ESA, was based on a finding that such permit (1) was applied for in good faith, (2) will not operate to the disadvantage of such endangered or threatened species, and (3) is consistent with the purposes and policies set forth in section 2 of the ESA.

Dated: June 8, 2016.
Julia Harrison,
Chief, Permits and Conservation Division, Office of Protected Resources, National Marine Fisheries Service.

[FR Doc. 2016-13969 Filed 6-13-16; 8:45 am]

BILLING CODE 3510-22-P